INTERNATIONAL TRADE COMMISSION

[Investigation No. 332-325]

The Economic Effects of Significant U.S. Import Restraints: Eighth Update Special Topic: Services' Contribution to Manufacturing

AGENCY: United States International Trade Commission.

ACTION: Notice of eighth update report, scheduling of public hearing, opportunity to file written submissions.

SUMMARY: Following receipt of a letter dated November 2, 2012 from the United States Trade Representative (USTR), the U.S. International Trade Commission (Commission) has announced its schedule for preparing the eighth update report in investigation No. 332-325, The Economic Effects of Significant U.S. Import Restraints, including the scheduling of a public hearing in connection with this update report for March 19, 2013. This year's report will include a chapter on services' contribution to manufacturing.

DATES:

March 6, 2013: Deadline for filing requests to appear at the public hearing.

March 11, 2013: Deadline for filing pre-hearing briefs and statements.

March 19, 2013: Public hearing.

March 26, 2013: Deadline for filing post-hearing briefs and statements.

April 12, 2013: Deadline for filing all other written submissions.

November 15, 2013: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://edis.usitc.gov/edis3-internal/app.

FOR FURTHER INFORMATION CONTACT: Project Leader Jose Signoret (jose.signoret@usitc.gov or 202-205-3125) or Deputy Project Leader William Deese (william.deese@usitc.gov or 202-205-2626) for information specific to this investigation (the eighth update). For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The Commission instituted this investigation under section 332(g) of the Tariff Act of 1930 (19 U.S.C. 1332(g)) following receipt of an initial request from the USTR dated May 15, 1992. The request asked that the Commission assess the quantitative economic effects of significant U.S. import restraints on the U.S. economy and prepare periodic update reports after the initial report. The Commission published a notice of institution of the investigation in the Federal Register of June 17, 1992 (57 FR 27063). The first report was delivered to the USTR in November 1993, the first update in December 1995, and successive updates were delivered in 1999, 2002, 2004, 2007, 2009, and 2011.

In this eighth update, as requested by the USTR in a letter dated November 2, 2012, the Commission will, in addition to the quantitative effects analysis similar to that included in prior reports, include an overview of the contributions of services (both U.S. and global) to U.S. manufacturing. The USTR asked that the report describe recent trends in U.S. and global sourcing of services and their contribution to manufacturing output and productivity, and identify sectors that have experienced the greatest changes. The USTR also asked that the report include, to the extent practicable, a discussion of services' indirect contribution to merchandise exports and also a review of available literature on this issue. The USTR asked that the information be presented in a manner that makes it accessible to a wide audience.

As in previous reports in this series, the eighth update will continue to assess the economic effects of significant import restraints on U.S. consumers and firms, the income and employment of U.S. workers, and the net economic welfare of the United States. This assessment will use the Commission's computable general equilibrium model. However, as per earlier instructions from the USTR, the Commission will not assess import restraints resulting from antidumping or countervailing duty investigations, section 337 and 406 investigations, or section 301 actions.

Public Hearing: A public hearing in connection with this investigation will be held at the United States International Trade Commission Building, 500 E Street SW., Washington, DC, beginning at 9:30 a.m. on March 19, 2013. Requests to appear at the hearing should be filed with the Secretary no later than 5:15 p.m., March 6, 2013, in accordance with the requirements in the “Submissions” section below. All pre-hearing briefs and statements should be filed not later than 5:15 p.m., March 11, 2013; and all post-hearing briefs and statements addressing matters raised at the hearing should be filed not later than 5:15 p.m., March 26, 2013. In the event that, as of the close of business on March 6, 2013, no witnesses are scheduled to appear at the hearing, the hearing will be canceled. Any person interested in attending the hearing as an observer or nonparticipant may call the Secretary to the Commission (202-205-2000) after March 6, 2013, for information concerning whether the hearing will be held.

Written Submissions: In lieu of or in addition to participating at the hearing, interested parties are invited to file written submissions concerning this investigation. All written submissions should be addressed to the Secretary, and should be received not later than 5:15 p.m., April 12, 2013. All written submissions must conform to the provisions of section 201.8 of the Commission's Rules of Practice and Procedure (19 CFR 201.8). Section 201.8 Section 201.8 and the Commission's Handbook on Filing Procedures require that interested parties file documents electronically on or before the filing deadline and submit eight (8) true paper copies by 12:00 noon eastern time on the next business day. In the event that confidential treatment of a document is requested, interested parties must file, at the same time as the eight paper copies, at least four (4) additional copies in which the confidential information must be deleted (see the following paragraph for further information regarding confidential business information). Persons with questions regarding electronic filing should contact the Secretary (202-205-2000).

Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In its request letter, the USTR stated that his office intends to make the Commission's report available to the public in its entirety, and asked that the Commission not include any confidential business information or national security classified information in the report it sends to the USTR. Any confidential business information received by the Commission in this investigation and used in preparing this report will not be published in a manner that would reveal the operations of the firm supplying the information.

By order of the Commission.
Issued: December 20, 2012.
Lisa R. Barton,
Acting Secretary to the Commission.

[FR Doc. 2012-31031 Filed 12-21-12; 4:15 pm]

BILLING CODE 7020-02-P